DEPARTMENT OF LABOR

Employment and Training Administration

Notice of Determinations Regarding Eligibility To Apply for Worker Adjustment Assistance and NAFTA Transitional Adjustment Assistance

In accordance with section 223 of the Trade Act of 1974, as amended, the Department of Labor herein presents summaries of determinations regarding eligibility to apply for trade adjustment assistance for workers (TA-W) issued during the period of August, 2001.

In order for an affirmative determination to be made and a certification of eligibility to apply for worker adjustment assistance to be issued, each of the group eligibility requirements of Section 222 of the Act must be met.

(1) That a significant number or proportion of the workers in the workers' firm, or an appropriate subdivision thereof, have become totally or partially separated.

(2) That sales or production, or both, of the firm or subdivision have decreased absolutely, and

(3) That increases of imports of articles like or directly competitive with articles produced by the firm or appropriate subdivision have contributed importantly to the separations, or threat thereof, and to the absolute decline in sales or production.

Negative Determinations for Worker Adjustment Assistance

In each of the following cases the investigation revealed that criterion (3) has not been met. A survey of customers indicated that increased imports did not contribute importantly to worker separations at the firm.

TA-W-39,779; Albany Chicago Co., Pleasant Prairie, WI

TA-W-38,562; Babcock Borsig Power, Inc., Erie, PA

TA-W-39,345; Tri-State Plastic, Inc., Gastonia, NC

TA-W-38,970; Superior Lumber Co., Plywood and Veneer, Glendale, OR

TA-W-39,037; Clinton Industries, Inc., Carlstadt, NJ

TA-W-39,740; House Glass Corp., Point Marion, PA

TA-W-39,524; Tex Tech Industries, Tempe, AZ

TA-W-547; Ross Simmons Hardwood, Longview, WA

TA-W-38,889; Elk Creek Raycarl Products, Div. Of Textron Fastening Systems, Elk Creek, VA

TA-W-38,272; Technimark, Inc., Asheboro, NC

TA-W-39,117; Powder Metal Products Co., Powder Metal Products Div., St. Marys, PA

TA-W-39,437A; Agere Systems, Optoelectonics Div., Reading, PA

TA-W-39,449A; Agere Systems, Optoelectronics Div., Breinigsville, PA

In the following cases, the investigation revealed that the criteria for eligibility have not been met for the reasons specified.

Increased imports did not contribute importantly to worker separations at the firm.

TA-W-39,568; Alcatel Submarine Networks, Inc., Portland, OR

TA-W-39,057; Kolb-Lena Bresse Bleu, Watertown, WI

TA-W-39,017; Federal Mogul Ignition Products, Cambridge, OH

TA-W-39,156; CMS Hartzell Manufacturing, St. Paul, MN

TA-W-39,787; Sheldahl, Inc., Flexible Interconnect Div., Britton, SD

TA-W-39,603; Coleman Cable, Inc., McAllen, TX

The investigation revealed that criteria (2) has not been met. Sales or production did not deline during the relevant period as required for certification.

TA-W-39,476; KIP, Inc., Long Island City, NY

The workers firm does not produce an article as required for certification under Section 222 of the Trade Act of 1974.

TA-W-39,916; Steco and Company, Birmingham, AL

TA-W-39,928; Henderson Sewing Machine Co., Inc., Andalusia, GA

TA-W-39,675; Fruit Distributing Co., Mobile, AL

Affirmative Determinations for Worker Adjustment Assistance

The following certifications have been issued; the date following the company name and location of each determination references the impact date for all workers of such determination.

TA-W-39,437; Agere Systems, Integrated Circuits, Reading, PA: June 1, 2000.

TA-W-39,449 Agere Systems, Integrated Circuits Div., Allentown, PA: June 5, 2001.

TA-W-39,764; Oxford Industries, Inc., Oxford of Columbia, Columbia, SC: August 27, 2001.

TA-W-39,560; ISB Fashion, Inc., New York, NY: June 21, 2001.

TA-W-39,261; Gunite Corp., EMI Plant, Erie, PA: May 1, 2000.

TA-W-39,780; Huntsman Polymers Corp., Odessa, TX: July 16, 2002.

TA-W-39,362; Henerson Leisurewear, Inc., A Subsidiary of I. Appel, Inc., Henderson, TN: May 21, 2000.

TA-W-39,441; Mrs. Allison's Cookie Company, A Division of Parmalot, St. Louis, MO: May 25, 2000.

TA-W-39,184; Electro Technology, Muscle Shoals, AL: April 18, 2000.

TA-W-39,299; Mowad Apparel, Inc., El Paso, TX: May 5, 2001.

TA-W-39,558; Phantom/Glendale, Inc., Seamless Division, Wilkesboro, NC: June 20, 2000.

TA-W-39,759; Delta Apparel, Washington, GA: September 4, 2000.

TA-W-39,032; Pinson Mining Company, Winnemucca, NV: May 1, 2001.

TA-W-39,763; The West Bend Company, West Bend, WI: April 1, 2001.

TA-W-39,266; TDK Ferrites Corp., Shawnee, OK: “ALL workers engaged in the production of EU core ferrites who became totally or partially separated from employment on or after April 25, 2000.

“All workers engaged in the production of CR core ferrites and micro-section ferrites are denied.

TA-W-39,538; Rich Products Corp., Winchester, VA: June 15, 2000.

TA-W-39,413; Sportswear USA, Wallace, NC: May 29, 2000.

TA-W-39,573; Cooper Wiring Devices, Assembly Department, Georgetown, SC: June 27, 2000.

TA-W-39,509; Trans Apparel Group, Michigan City, IN: June 12, 2000.

TA-W-38,870; American Bag Corp., a/k/a Sylvan Chemical, Winfield, TN: March 8, 2000.

Also, pursuant to Title V of the North American Free Trade Agreement Implementation Act (Pub.L. 103-182) concerning transitional adjustment assistance hereinafter called (NAFTA-TAA) and in accordance with Section 250(a), Subchapter D, Chapter 2, Title II, of the Trade Act as amended, the Department of Labor presents summaries of determinations regarding eligibility to apply for NAFTA-TAA issued during the month of August, 2001.

In order for an affirmative determination to be made and a certification of eligibility to apply for NAFTA-TAA the following group eligibility requirements of Section 250 of the Trade Act must be met:

(1) That a significant number of proportion of the workers in the workers' firm, or an appropriate subdivision thereof, (including workers in any agricultural firm or appropriate subdivision thereof) have become totally or partially separated from employment and either—

(2) That sales or production, or both, of such firm or subdivision have decreased absolutely,

(3) That imports from Mexico or Canada of articles like or directly competitive with articles produced by such firm or subdivision have increased, and that the increases imports contributed importantly to such workers' separations or threat of separation and to the decline in sales or production of such firm or subdivision; or

(4) That there has been a shift in production by such worker' firm or subdivision to Mexico and Canada of articles like or directly competitive with articles which are produced by the firm or subdivision.

Negative Determinations NAFTA-TAA

In each of the following cases the investigation revealed that criteria (3) and (4) were not met. Imports from Canada or Mexico did not contribute importantly to workers' separations. There was no shift in production from the subject firm to Canada or Mexico during the relevant period.

NAFTA-TAA-04704; Superior Lumber Company, Plywood and Veneer, Glendale, OR

NAFTA-TAA-05173; Albany-Chicago Co., Pleasant Prairie, WI

NAFTA-TAA-04983; Flextronics Enclosures, Chambersburg, PA

NAFTA-TAA-05113; C.T. Gamble Acquisition Corp., Delanco, NJ

NAFTA-TAA-05025; Coleman Cable, Inc., McAllen, TX

NAFTA-TAA-04436; Babcock Borsig Power, Inc., Erie, PA

NAFTA-TAA-04908; Gunite Corp., EMI Plant, Erie, PA

NAFTA-TAA-05109; Safari Motor Coach Corp., Hines, OR

NAFTA-TAA-04889; Quebecor World, Salem, IL.

NAFTA-TAA-05135; House Glass Corp., Point Marion, PA

NAFTA-TAA-04906; Savannah Luggage Works, Vidalia, GA

Affirmative Determinations NAFTA-TAA

NAFTA-TAA-05127; Evenflo Company, Inc., Jasper, AL: July 10, 2000.

NAFTA-TAA-05021; Rich Products Corp., Winchester, VA: June 25, 2000.

NAFTA-TAA-05144; Manitowoc Boom Trucks, Inc., York, PA: July 24, 2000.

NAFTA-TAA-05129; Rugged Sportswear, LaGrange, NC: July 18, 2000.

NAFTA-TAA-05110; O'Bryan Brothers, Inc., Leon, IA: July 19, 2000.

NAFTA-TAA-05130; Delta Apparel, Washington, GA: July 17, 2000.

NAFTA-TAA-05147; Square D Corp., Cedar Rapids, IA: July 16, 2000.

NAFTA-TAA-05116; 3Com Corporation, Santa Clara Manufacturing Operations, Santa Clara, CA: July 13, 2000.

NAFTA-TAA-05043; Cooper Wiring Devices, Assembly Department, Georgetown, SC: June 26, 2000.

NAFTA-TAA-05111; SMTC Manufacturing Corp of Wisconsin, Appleton, WI: July 12, 2000.

NAFTA-TAA-05015; Phanton/Glendale, Inc., Seamless Division, Wilkesboro, NC: June 20, 2000.

NAFTA-TAA-05074; Plaid Clothing Company, Inc., Somerset, KY: June 4, 2001.

NAFTA-TAA-05171; Huntsman Polymers Corp., Odessa, TX: July 16, 2000.

NAFTA-TAA-04936; Sportswear USA, Wallace, NC: May 29, 2001.

NAFTA-TAA-05079; Neles Automation USA, Inc., Houston Delivery Center, Houston, TX: July 13, 2000.

NAFTA-TAA-05006; Weyerhaeuser, Fine Paper Division, Longview, WA: June 18, 2000.

NAFTA-TAA-04967; Mrs. Allison's Cookie Company, A Division of Parmalot, St. Louis, MO: May 25, 2000.

I hereby certify that the aforementioned determinations were issued during the month of August, 2001. Copies of these determinations are available for inspection in Room C-5311, U.S. Department of Labor, 200 Constitution Avenue, NW., Washington, DC 20210 during normal business hours or will be mailed to persons who write to the above address.

Dated: September 4, 2001.
Edward A. Tomchick,
Director, Division of Trade Adjustment Assistance

[FR Doc. 01-22683 Filed 9-10-01; 8:45 am]

BILLING CODE 4510-30-M